DEPARTMENT OF HOMELAND SECURITY

Federal Emergency Management Agency

[Docket ID FEMA-2021-0002; Internal Agency Docket No. FEMA-B-2080]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Pima | City of Tucson, (20-09-2061P). | The Honorable Regina Romero, Mayor, City of Tucson, 255 West Alameda Street, Tucson, AZ 85701. | Planning and Development Services, Public Works Building, 201 North Stone Avenue, Tucson, AZ 85701. | https://msc.fema.gov/portal/advanceSearch. | Mar. 15, 2021 | 040076
Pima | Town of Marana, (20-09-0784P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Apr. 5, 2021 | 040118
California:
Nevada | Town of Truckee, (20-09-0383P). | The Honorable David Polivy, Mayor, Town of Truckee, 10183 Truckee Airport Road, Truckee, CA 96161. | Eric W. Rood Administrative Center, 950 Maidu Avenue, Nevada City, CA 95959. | https://msc.fema.gov/portal/advanceSearch. | Mar. 22, 2021 | 060762
Orange | City of Orange, (21-09-0083X). | The Honorable Mark A. Murphy, Mayor, City of Orange, 300 East Chapman Avenue, Orange, CA 92866. | City Hall, 300 East Chapman Avenue, Orange, CA 92866. | https://msc.fema.gov/portal/advanceSearch. | Mar. 12, 2021 | 060228
Orange | City of Villa Park, (21-09-0083X). | The Honorable Robert Pitts, Mayor, City of Villa Park, 17855 Santiago Boulevard, Villa Park, CA 92861. | City Hall, 17855 Santiago Boulevard, Villa Park, CA 92861. | https://msc.fema.gov/portal/advanceSearch. | Mar. 12, 2021 | 060236
Orange | Unincorporated Areas of Orange County, (21-09-0083X). | The Honorable Michelle Steel, Chair, Board of Supervisors, Orange County, 333 West Santa Ana Boulevard, Santa Ana, CA 92701. | Orange County Flood Control Division, H.G. Osborne Building, 300 North Flower Street 7th Floor, Santa Ana, CA 92703. | https://msc.fema.gov/portal/advanceSearch. | Mar. 12, 2021 | 060212
Riverside | City of Eastvale, (18-09-2446P). | The Honorable Brandon Plott, Mayor, City of Eastvale, 12363 Limonite Avenue Suite 910, Eastvale, CA 91752. | City Hall, Public Works Department, 12363 Limonite Avenue Suite 910, Eastvale, CA 91752. | https://msc.fema.gov/portal/advanceSearch. | Apr. 5, 2021 | 060155
Riverside | City of Jurupa Valley, (18-09-2446P). | The Honorable Anthony Kelly, Jr., Mayor, City of Jurupa Valley, 8930 Limonite Avenue, Jurupa Valley, CA 92509. | City Hall, 8930 Limonite Avenue, Jurupa, CA 92509. | https://msc.fema.gov/portal/advanceSearch. | Apr. 5, 2021 | 060286
Riverside | City of Norco (18-09-2446P). | The Honorable Berwin Hanna, Mayor, City of Norco, 2870 Clark Avenue, Norco, CA 92860. | City Hall, 2870 Clark Avenue, Norco, CA 92860. | https://msc.fema.gov/portal/advanceSearch. | Apr. 5, 2021 | 060256
Riverside | Unincorporated Areas of Riverside County, (18-09-2446P). | The Honorable V. Manuel Perez, Chairman, Board of Supervisors, Riverside County, 4080 Lemon Street, 5th Floor, Riverside, CA 92501. | Riverside County, Flood Control and Water Conservation District, 1995 Market Street, Riverside, CA 92501. | https://msc.fema.gov/portal/advanceSearch. | Apr. 5, 2021 | 060245
Colorado:
Weld | Town of Milliken, (19-08-1058P). | The Honorable Elizabeth Austin, Mayor, Town of Milliken, 1101 Broad Street, Milliken, CO 80543. | Town Hall, 1101 Broad Street, Milliken, CO 80543. | https://msc.fema.gov/portal/advanceSearch. | Feb.1, 2021 | 080187
Weld | Unincorporated Areas of Weld County, (19-08-1058P). | Mr. Mike Freeman, Commissioners Chair, Weld County, 1150 O Street, Greeley, CO 80632. | Weld County Commissioner's Office, 915 10th Street, Greeley, CO 80632. | https://msc.fema.gov/portal/advanceSearch. | Feb. 1, 2021 | 080266
Hawaii: Hawaii | Hawaii County, (20-09-1839P). | The Honorable Harry Kim, Mayor, County of Hawaii, 25 Aupuni Street, Hilo, HI 76720. | Hawaii County Department of Public Works, Engineering Division, 101 Pauahi Street, Suite 7, Hilo, HI 96720. | https://msc.fema.gov/portal/advanceSearch. | Mar. 19, 2021 | 155166
Illinois:
Cook | City of Prospect Heights, (19-05-1451P). | The Honorable Nicholas J. Helmer, Mayor, City of Prospect Heights, 8 North Elmhurst Road, Prospect Heights, IL 60070. | City Hall, 8 North Elmhurst Road, Prospect Heights, IL 60070. | https://msc.fema.gov/portal/advanceSearch. | Mar. 4, 2021 | 170919
Cook | Unincorporated Areas of Cook County, (19-05-1451P). | The Honorable Toni Preckwinkle, County Board President, Cook County, 118 North Clark Street, Room 537, Chicago, IL 60602. | Cook County Building and Zoning Department, 69 West Washington, Suite 2830, Chicago, IL 60602. | https://msc.fema.gov/portal/advanceSearch. | Mar. 4, 2021 | 170054
Cook | Village of Wheeling, (19-05-1451P). | The Honorable Patrick Horcher, Village President, Village of Wheeling, 2 Community Boulevard, Wheeling, IL 60090. | Village Hall, Community Development Engineering Division, 2 Community Boulevard, Wheeling, IL 60090. | https://msc.fema.gov/portal/advanceSearch. | Mar. 4, 2021 | 170173
DuPage | Village of Westmont, (20-05-3289P). | The Honorable Ronald J. Gunter, Mayor, Village of Westmont, 31 West Quincy Street, Westmont, IL 60559. | Village Hall, 31 West Quincy Street, Westmont, IL 60559. | https://msc.fema.gov/portal/advanceSearch. | Mar. 19, 2021 | 170220
Kane | Unincorporated Areas of Kane County, (20-05-2475P). | The Honorable Christopher Lauzen, Chairman, Kane County Board, Kane County Government Center, Building A, 719 South Batavia Avenue, Geneva, IL 60134. | Kane County Government Center, Building A, Water Resources Department, 719 South Batavia Avenue, Geneva, IL 60134. | https://msc.fema.gov/portal/advanceSearch. | Feb. 19, 2021 | 170896
Kane | Village of Carpentersville (20-05-2475P). | The Honorable John Skillman, Village President, Village of Carpentersville, 1200 L.W. Besinger Drive, Carpentersville, IL 60110. | Village Hall, 1200 L.W. Besinger Drive, Carpentersville, IL 60110. | https://msc.fema.gov/portal/advanceSearch. | Feb. 19, 2021 | 170322
Kane | Village of Carpentersville (20-05-2659P). | The Honorable John Skillman, Village President, Village of Carpentersville, 1200 L.W. Besinger Drive, Carpentersville, IL 60110. | Village Hall, 1200 L.W. Besinger Drive, Carpentersville, IL 60110. | https://msc.fema.gov/portal/advanceSearch. | Feb. 25, 2021 | 170322
Will | Unincorporated Areas of Will County, (20-05-3060P). | Ms. Denise E. Winfrey, County Executive, Will County, Will County Office Building, 302 North Chicago Street, Joliet, IL 60432. | Land Use Department, 58 East Clinton Street, Suite 100, Joliet, IL 60432. | https://msc.fema.gov/portal/advanceSearch. | Apr. 9, 2021 | 170695
Will | Village of Monee, (20-05-3030P). | The Honorable James F. Popp, Mayor, Village of Monee, 5130 West Court Street, Monee, IL 60449. | Village Hall, 5130 West Court Street, Monee, IL 60449. | https://msc.fema.gov/portal/advanceSearch. | Feb. 18, 2021 | 171029
Will | Village of Romeoville, (20-05-3060P). | The Honorable John D. Noak, Mayor, Village of Romeoville, 1050 West Romeo Road, Romeoville, IL 60446. | Village Hall, 1050 West Romeo Road, Romeoville, IL 60446. | https://msc.fema.gov/portal/advanceSearch. | Apr. 9, 2021 | 170711
Minnesota:
Norman | City of Halstad (20-05-2194P). | The Honorable Lori Delong, Mayor, City of Halstad, 405 2nd Avenue West, Halstad, MN 56548. | Administrative Building, 405 2nd Avenue West, Halstad, MN 56548. | https://msc.fema.gov/portal/advanceSearch. | Mar. 10, 2021 | 270324
Norman | City of Hendrum, (20-05-2263P). | The Honorable Curt Johannsen, Mayor, City of Hendrum, P.O. Box 100, Hendrum, MN 56550. | Administrative Building, 308 Main Street East, Hendrum, MN 56550. | https://msc.fema.gov/portal/advanceSearch. | Mar. 10, 2021 | 270325
Norman | Unincorporated Areas of Norman County, (20-05-2194P). | Ms. Lee Ann Hall, Chair, Norman County Board of Commissioners, 315 West Main Street, Ada, MN 56510. | Norman County Court House, 16 3rd Avenue East, Ada, MN 56510. | https://msc.fema.gov/portal/advanceSearch. | Mar. 10, 2021 | 270322
Norman | Unincorporated Areas of Norman County, (20-05-2263P). | Ms. Lee Ann Hall, Chair, Norman County Board of Commissioners, 315 West Main Street, Ada, MN 56510. | Norman County Court House, 16 3rd Avenue East, Ada, MN 56510. | https://msc.fema.gov/portal/advanceSearch. | Mar. 10, 2021 | 270322
North Dakota:
Traill | Township of Elm River, (20-05-2263P). | Mr. Todd Harrington, Supervisor, Township of Elm River, 948 173rd Avenue, Grandin, ND 58038. | County Courthouse, 114 West Caledonia, Hillsboro, ND 58045. | https://msc.fema.gov/portal/advanceSearch. | Mar. 10, 2021 | 380636
Traill | Township of Herberg, (20-05-2194P). | Mr. Steven Reinpold, Chairman, Township of Herberg, 221 169th Avenue, Hillsboro, ND 58045. | County Courthouse, 114 West Caledonia, Hillsboro, ND 58045. | https://msc.fema.gov/portal/advanceSearch. | Mar. 10, 2021 | 380621
Ohio:
Lucas | City of Toledo, (20-05-2610P). | The Honorable Wade Kapszukiewicz, Mayor, City of Toledo, One Government Center Suite 2200, Toledo, OH 43604. | Department of Inspection, One Government Center, Suite 1600, Toledo, OH 43604. | https://msc.fema.gov/portal/advanceSearch. | Mar. 31, 2021 | 395373
Fairfield | Unincorporated Areas of Fairfield County, (20-05-3622P). | Mr. Dave L. Levacy, Commissioner, Fairfield County, 210 East Main Street, Room 301, Lancaster, OH 43130. | Fairfield County Regional Planning Commission, 210 East Main Street, Room 104, Lancaster, OH 43130. | https://msc.fema.gov/portal/advanceSearch. | Mar. 4, 2021 | 390158
Franklin | City of Dublin, (20-05-2455P). | The Honorable Chris Amorose Groomes, Mayor, City of Dublin, City Hall, 5200 Emerald Parkway, Dublin, OH 43017. | Engineering Building, 5800 Shier-Rings Road, Dublin, OH 43017. | https://msc.fema.gov/portal/advanceSearch. | Feb. 24, 2021 | 390673
Franklin | City of Grove City, (20-05-3170P). | The Honorable Richard L. “Ike” Stage, Mayor, City of Grove City, 4035 Broadway, Grove City, OH 43123. | City Hall, 4035 Broadway, Grove City, OH 43123. | https://msc.fema.gov/portal/advanceSearch. | Feb. 19, 2021 | 390173
Richland | Unincorporated Areas of Richland County, (20-05-1712P). | Mr. Anthony Vero, County Executive, Richland County, 50 Park Avenue East, Mansfield, OH 44902. | Richland County Director of Building Regulations, 1495 West Longview Avenue, Suite 202A, Mansfield, OH 44906. | https://msc.fema.gov/portal/advanceSearch. | Mar. 23, 2021 | 390476
Richland | Village of Bellville, (20-05-1712P). | The Honorable Teri L. Brenkus, Mayor, Village of Bellville, 142 Park Place, Bellville, OH 44813. | Zoning Inspector, 142 Park Place, Bellville, OH 44813. | https://msc.fema.gov/portal/advanceSearch. | Mar. 23, 2021 | 390604
Texas:
Tarrant | City of Fort Worth, (20-06-0541P). | The Honorable Betsy Price, Mayor, City of Fort Worth, 200 Texas Street, Fort Worth, TX 76102. | Department of Transportation and Public Works, 200 Texas Street, Fort Worth, TX 76102. | https://msc.fema.gov/portal/advanceSearch. | Mar. 19, 2021 | 480596
Wisconsin:
Manitowoc | City of Manitowoc, (20-05-4694P). | The Honorable Justin M. Nickels, Mayor, City of Manitowoc, 900 Quay Street, Manitowoc, WI 54220. | City Hall, 900 Quay Street, Manitowoc, WI 54220. | https://msc.fema.gov/portal/advanceSearch. | Mar. 11, 2021 | 550240
Manitowoc | Unincorporated Areas of Manitowoc, (20-05-4694P). | The Honorable Jim Brey, Chair, Board of Supervisors, Manitowoc County Courthouse, 1010 South 8th Street, Manitowoc, WI 54220. | Manitowoc County Courthouse, 1010 South 8th Street, Manitowoc, WI 54220. | https://msc.fema.gov/portal/advanceSearch. | Mar. 11, 2021 | 550236

[FR Doc. 2021-00397 Filed 1-11-21; 8:45 am]

BILLING CODE 9110-12-P